DEPARTMENT OF TRANSPORTATION

Federal Aviation Administration

Public Notice for Waiver of Aeronautical Land-Use Assurance; Presque Isle County/Roger City Airport, Roger City, MI

AGENCY: Federal Aviation Administration, DOT.

ACTION: Notice of intent of waiver with respect to land.

SUMMARY: The Federal Aviation Administration (FAA) is considering a proposal to change a portion of the airport from aeronautical use to non-aeronautical use and to authorize the sale of the airport property. The proposal consists of one parcel totaling approximately 42.68 acres. Current use and present condition is undeveloped vacant land. The land was originally sold to the County from Bradley Reality Company, December 27, 1935. There are no impacts to the airport by allowing the airport to dispose of the property. However, an avigation easement will be imposed over this property to protect the airspace for future aeronautical development and any building constructed on this parcel will be limited to one-story. The proposed land will be used to enhance the infrastructure surrounding the airport by developing business is an area designated as a Renaissance Zone. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before August 22, 2003.

FOR FURTHER INFORMATION CONTACT: Ms. Stephanie Swann, Program Manager, Federal Aviation Administration, Great Lakes Region, Detroit Airports District Office, DET ADO-613, Metro Airport Center, 11677 South Wayne Road, Suite 107, Romulus, Michigan 48174. Telephone Number: 734-229-2945/FAX Number: 734-229-2950. Documents reflecting this FAA action may be reviewed at this same location or at Presque Isle County/Roger City Airport, Roger City, Michigan.

SUPPLEMENTARY INFORMATION: Following is a legal description of the property located in Roger City, County of Presque Isle, Michigan, and described as follows:

A parcel commencing at the southwest corner of section 22, T35N R5S Presque Isle County, Michigan, thence along the south line of said section 1,016.28 feet to the point of beginning, thence W 26° 29′35″ W 473.43 feet; thence north 87° 15′37″ E, 349.90 feet; thence S 02° 08′32″ E, 200.00 feet; thence N 87° 51′37″ EM 177.00 feet; thence S 02° 08′32″ E, 166.55 feet; thence S 87° 51′37″ W, 280.29 feet, thence S 26° 29′35″ E, 76.79 feet to the south line of said section; thence along said south line 80.97 feet to the point of beginning, also commencing at the S¼ corner said section; thence northerly along the NS¼ line of said section 100.11 feet, to the point of beginning; thence S 87° 51′37″ W, 971.55 feet, thence N 02° 08′32′ W, 744.22 feet; thence N 87° 51′37′ E, 2078.05 feet, thence S 01° 05′26″ W, 300 feet; thence N 87° 51′03″ E, 250 feet to the E ⅛ line of said section; thence southerly along said ⅛ line 444.22 feet, thence S 87° 51′25″ W, 1,343.91 feet to the point of beginning. Said parcel contains 42.68 acres.

Issued in Romulus, Michigan, on June 2, 2003.
Irene R. Porter,
Manager, Detroit Airports District Office, FAA, Great Lakes Region.

[FR Doc. 03-18388 Filed 7-22-03; 8:45 am]

BILLING CODE 4910-13-M